DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona:
Greenlee (FEMA Docket No.: B-1942). | Unincorporated Areas of Greenlee County (18-09-1753P). | The Honorable Richard Lunt, Chairman, Board of Supervisors, Greenlee County, 253 5th Street, Clifton, AZ 85534. | Greenlee County, Planning and Zoning Department, 253 5th Street, Clifton, AZ 85534. | Oct. 3, 2019 | 040110
Maricopa (FEMA Docket No.: B-1942). | City of Buckeye (18-09-2110P). | The Honorable Jackie A. Meck, Mayor, City of Buckeye, 530 East Monroe Avenue, Buckeye, AZ 85326. | Engineering Department, 530 East Monroe Avenue, Buckeye, AZ 85326. | Oct. 4, 2019 | 040039
Maricopa(FEMA Docket No.: B-1949). | City of Chandler (19-09-0018P). | The Honorable Kevin Hartke, Mayor, City of Chandler, 175 South Arizona Avenue, Chandler, AZ 85225. | Transportation & Development Department, 215 East Buffalo Street, Chandler, AZ 85225. | Oct. 11, 2019 | 040040
Maricopa (FEMA Docket No.: B-1937). | City of Peoria (19-09-0336P). | The Honorable Cathy Carlat, Mayor, City of Peoria, 8401 West Monroe Street, Peoria, AZ 85345. | City Hall, 8401 West Monroe Street, Peoria, AZ 85345. | Sep. 13, 2019 | 040050
Maricopa (FEMA Docket No.: B-1949). | City of Tempe (19-09-0018P). | The Honorable Mark Mitchell, Mayor, City of Tempe, P.O. Box 5002, Tempe, AZ 85280. | City Hall, Engineering Department, 31 East 5th Street, Tempe, AZ 85281. | Oct. 11, 2019 | 040054
Maricopa (FEMA Docket No.: B-1942). | Unincorporated Areas of Maricopa County (18-09-2110P). | The Honorable Bill Gates, Chairman, Board of Supervisors, Maricopa County, 301 West Jefferson Street, 10th Floor, Phoenix, AZ 85003. | Flood Control District of Maricopa County, 2801 West Durango Street, Phoenix, AZ 85009. | Oct. 4, 2019 | 040037
Pima (FEMA Docket No.: B-1937). | City of Tucson (18-09-2360P). | The Honorable Jonathan Rothschild, Mayor, City of Tucson, City Hall, 255 West Alameda Street, 10th Floor, Tucson, AZ 85701. | Planning and Development Services, Public Works Building, 201 North Stone Avenue, Tucson, AZ 85701. | Aug. 23, 2019 | 040076
Pima (FEMA Docket No.: B-1926). | Town of Oro Valley (18-09-2032P). | The Honorable Joe Winfield, Mayor, Town of Oro Valley, Town Hall, 11000 North La Cañada Drive, Oro Valley, AZ 85737. | Planning and Zoning Department, 11000 North La Cañada Drive, Oro Valley, AZ 85737. | Aug. 6, 2019 | 040109
Pima (FEMA Docket No.: B-1930). | Town of Oro Valley (18-09-2035P). | The Honorable Joe Winfield, Mayor, Town of Oro Valley, Town Hall, 11000 North La Cañada Drive, Oro Valley, AZ 85737. | Planning and Zoning Department, 11000 North La Cañada Drive, Oro Valley, AZ 85737. | Aug. 15, 2019 | 040109
Pima (FEMA Docket No.: B-1937). | Unincorporated Areas of Pima County (18-09-2360P). | The Honorable Richard Elias, Chairman, Board of Supervisors, Pima County, 130 West Congress Street, 11th Floor, Tucson, AZ 85701. | Pima County Flood Control District, 201 North Stone Avenue, 9th Floor, Tucson, AZ 85701. | Aug. 23, 2019 | 040073
California:
Contra Costa (FEMA Docket No.: B-1949). | City of Oakley (18-09-2401P). | The Honorable Claire Alaura, Mayor, City of Oakley, 3231 Main Street, Oakley, CA 94561. | Public Works and Engineering Department, 3231 Main Street, Oakley, CA 94561. | Oct. 8, 2019 | 060766
Orange (FEMA Docket No.: B-1937). | City of Irvine (19-09-0114P). | The Honorable Christina L. Shea, Mayor, City of Irvine, 1 Civic Center Plaza, Irvine, CA 92606. | City Hall, 1 Civic Center Plaza, Irvine, CA 92606. | Sep. 20, 2019 | 060222
Santa Clara (FEMA Docket No.: B-1949). | City of San Jose (18-09-2460P). | The Honorable Sam Liccardo, Mayor, City of San Jose, Mayor's Office, 200 East Santa Clara Street, 18th Floor, San Jose, CA 95113. | Department of Public Works, 200 East Santa Clara Street Tower, 5th Floor, San Jose, CA 95113. | Oct. 10, 2019 | 060349
Florida:
Clay (FEMA Docket No.: B-1937). | Unincorporated Areas of Clay County (19-04-2097P). | Ms. Diane Hutchings, Commissioner, Clay County Board of County Commissioners, P.O. Box 1366, Green Cove Springs, FL 32043. | Clay County, Public Works Department, 5 Esplanade Avenue, Green Cove Springs, FL 32043. | Aug. 30, 2019 | 120064
St. Johns (FEMA Docket No.: B-1926). | Unincorporated Areas of St. Johns County (19-04-0059P). | Mr. Paul M. Waldron, Chairman, St. Johns County Board of Commissioners, 500 San Sebastian View, St. Augustine, FL 32084. | St. Johns County Administration Building, 4020 Lewis Speedway, St. Augustine, FL 32085. | Jul. 24, 2019 | 125147
St. Johns (FEMA Docket No.: B-1930). | Unincorporated Areas of St. Johns County (19-04-1638P). | Mr. Paul M. Waldron, Chairman, St. Johns County Board of Commissioners, 500 San Sebastian View, St. Augustine, FL 32084. | St. Johns County Administration Building, 4020 Lewis Speedway, St. Augustine, FL 32084. | Aug. 16, 2019 | 125147
Illinois:
Cook (FEMA Docket No.: B-1926). | Village of Franklin Park (18-05-6092P). | The Honorable Barrett F. Pedersen, Village President, Village of Franklin Park, 9500 Belmont Avenue, Franklin Park, IL 60131. | Village Hall, 9500 Belmont Avenue, Franklin Park, IL 60131. | Aug. 2, 2019 | 170094
Grundy (FEMA Docket No.: B-1949). | Unincorporated Areas of Grundy County (18-05-6349P). | Mr. Chris Balkema, Chairman, Grundy, County Board, 1320 Union Street, Morris, IL 60450. | Grundy County Administration Building, 1320 Union Street, Morris, IL 60450. | Oct. 18, 2019 | 170256
Grundy (FEMA Docket No.: B-1949). | Village of Carbon Hill (18-05-6349P). | The Honorable Richard Jurzak, Mayor, Village of, Carbon Hill, 695 North Holcomb Street, Carbon Hill, IL 60416. | Village Hall, 695 North Holcomb, Carbon Hill, IL 60416. | Oct. 18, 2019 | 170257
Grundy (FEMA Docket No.: B-1949). | Village of Coal City (18-05-6349P). | The Honorable Terry Halliday, Mayor, Village of Coal City, 515 South Broadway Street, Coal City, IL 60416. | Village Hall, 515 South Broadway Street, Coal City, IL 60416. | Oct. 18, 2019 | 170258
Grundy (FEMA Docket No.: B-1949). | Village of Diamond (18-05-6349P). | The Honorable Teresa Kernc, Mayor, Village of Diamond, 1750 East Division Street, Diamond, IL 60416. | Village Hall, 1750 East Division Street, Diamond, IL 60416. | Oct. 18, 2019 | 170259
Jackson County (FEMA Docket No.: B-1913). | Unincorporated Areas of Jackson County (18-05-4175P). | The Honorable John S. Rendleman, Chairman, Jackson County Board, Jackson County Courthouse, 1001 Walnut Street, Murphysboro, IL 62966. | Jackson County Assessment Office, 20 South 10th Street, Murphysboro, IL 62966. | Jun. 12, 2019 | 170927
Jackson County (FEMA Docket No.: B-1913). | Village of Dowell (18-05-4175P). | The Honorable Charles D. Horn, Village President, Village of Dowell, P.O. Box 92, Dowell, IL 62927. | Village Hall, 213 Union Avenue, Dowell, IL 62927. | Jun. 12, 2019 | 170875
Kane County (FEMA Docket No.: B-1919). | Village of Hampshire (18-05-5585P). | The Honorable Jeffrey Magnussen, Village President, Village of Hampshire, P.O. Box 457, Hampshire, IL 60140. | Village Hall, 234 South State Street, Hampshire, IL 60140. | Jun. 20, 2019 | 170327
Whiteside (FEMA Docket No.: B-1949). | City of Morrison (19-05-1824P). | The Honorable R. Everett Pannier, Mayor, City of Morrison, 200 West Main Street, Morrison, IL 61270. | City Hall, 200 West Main Street, Morrison, IL 61270. | Sep. 25, 2019 | 170691
Whiteside (FEMA Docket No.: B-1949). | Unincorporated Areas of Whiteside County (19-05-1824P). | The Honorable James C. Duffy, Chairman, Whiteside County Board, 200 East Knox Street, Morrison, IL 61270. | Whiteside County Courthouse, 200 East Knox Street, Morrison, IL 61270. | Sep. 25, 2019 | 170687
Indiana:
Dubois (FEMA Docket No.: B-1930). | City of Jasper (18-05-2105P). | The Honorable Terry Seitz, Mayor, City of Jasper, 610 Main Street, Jasper, IN 47546. | City Hall, 610 Main Street, Jasper, IN 47547. | Aug. 8, 2019 | 180055
Dubois (FEMA Docket No.: B-1930). | Unincorporated Areas of Dubois County (18-05-2105P). | Mr. Elmer Brames, Dubois County Commissioner, District 2, 2490 South Timerlin Drive, Jasper, IN 47546. | Dubois County Courthouse, 1 Courthouse Square, Jasper, IN 47546. | Aug. 8, 2019 | 180054
Kansas:
Riley (FEMA Docket No.: B-1942). | City of Manhattan (18-07-1218P). | The Honorable Linda Morse, Mayor, City of Manhattan, 1101 Poyntz Avenue, Manhattan, KS 66502. | City Hall, 1101 Poyntz Avenue, Manhattan, KS 66502. | Sep. 18, 2019 | 200300
Riley (FEMA Docket No.: B-1942). | Unincorporated Areas of Riley County (18-07-1218P). | Mr. Ron Wells, Chairperson, Riley County, 3609 Anderson Avenue, Manhattan, KS 66503. | Riley County Office Building, 110 Courthouse Plaza, Manhattan, KS 66502. | Sep. 18, 2019 | 200298
Michigan:
Washtenaw (FEMA Docket No.: B-1937). | Township of Scio (19-05-0515P). | Mr. Jack Knowles, Supervisor, Township, of Scio, 100 North 5th Avenue, Ann Arbor, MI 48104. | Township Hall, 827 North Zeeb Road, Ann Arbor, MI 48103. | Aug. 9, 2019 | 260537
Wayne (FEMA Docket No.: B-1937). | Township of Canton (18-05-5772P). | The Honorable Pat Williams, Township Supervisor, Township of Canton, Canton Municipal Complex, 1150 South Canton Center Road, Canton, MI 48188. | Municipal Complex, 1150 South Canton Center Road, Canton, MI 48188. | Aug. 30, 2019 | 260219
Minnesota: Dakota (FEMA Docket No.: B-1926). | City of Lakeville (18-05-4867P). | The Honorable Douglas P. Anderson, Mayor, City of Lakeville, 20195 Holyoke Avenue, Lakeville, MN 55044. | City Hall, 20195 Holyoke Avenue, Lakeville, MN 55044. | Aug. 5, 2019 | 270107
Nebraska: Washington (FEMA Docket No.: B-1937). | City of Blair (18-07-0934P). | The Honorable Richard Hansen, Mayor, City of Blair, 218 South 16th Street, Blair, NE 68008. | City Hall, 218 South 16th Street, Blair, NE 68008. | Sep. 23, 2019 | 310228
Nevada:
Clark (FEMA Docket No.: B-1942). | City of Las Vegas (18-09-1622P). | The Honorable Carolyn G. Goodman, Mayor, City of Las Vegas, City Hall, 495 South Main Street, Las Vegas, NV 89101. | Planning and Zoning Department, 333 North Rancho Drive, Las Vegas, NV 89106. | Oct. 4, 2019 | 325276
Clark (FEMA Docket No.: B-1926). | City of Las Vegas (18-09-1695P). | The Honorable Carolyn G. Goodman, Mayor, City of Las Vegas, City Hall, 495 South Main Street, Las Vegas, NV 89101. | Planning and Zoning Department, 333 North Rancho Drive, Las Vegas, NV 89106. | Aug. 1, 2019 | 325276
Clark (FEMA Docket No.: B-1930). | Unincorporated Areas of Clark County (18-09-0991P). | The Honorable Marilyn Kirkpatrick, Chair, Board of Commissioners, Clark County, 500 South Grand Central Parkway, 6th Floor, Las Vegas, NV 89106. | Clark County, Office of the Director of Public Works, 500 South Grand Central Parkway, 2nd Floor, Las Vegas, NV 89155. | Aug. 13, 2019 | 320003
Clark (FEMA Docket No.: B-1926). | Unincorporated Areas of Clark County (18-09-1695P). | The Honorable Marilyn Kirkpatrick, Chair, Board of Commissioners, Clark County, 500 South Grand Central Parkway, 6th Floor, Las Vegas, NV 89106. | Clark County, Office of the Director of Public Works, 500 South Grand Central Parkway, 2nd Floor, Las Vegas, NV 89155. | Aug. 1, 2019 | 320003
New York:
Rockland (FEMA Docket No.: B-1926). | Town of Clarkstown (19-02-0292P). | The Honorable George Hoehmann, Supervisor, Town of Clarkstown, Town Hall, 10 Maple Avenue, New City, NY 10956. | Town Hall, 10 Maple Avenue, New City, NY 10956. | Sep. 27, 2019 | 360679
Suffolk (FEMA Docket No.: B-1930). | Village of Sagaponack (19-02-0133P). | The Honorable Donald Louchheim, Mayor, Village of Sagaponack, P.O. Box 600, Sagaponack, NY 11962. | Village Hall, 3175 Montauk Highway, Sagaponack, NY 11962. | Sep. 27, 2019 | 361487
Westchester (FEMA Docket No.: B-1937). | Village of Mamaroneck (19-02-0392P). | The Honorable Thomas A. Murphy, Mayor, Village of Mamaroneck, 123 Mamaroneck Avenue, Mamaroneck, NY 10543. | Building Inspector, Village Hall, 3rd Floor, 169 Mount Pleasant Avenue, Mamaroneck, NY 10543. | Oct. 18, 2019 | 360916
Ohio:
Franklin (FEMA Docket No.: B-1926). | City of Grove City (18-05-5403P). | The Honorable Richard L. Stage, Mayor, City of Grove City, City Hall, 4035 Broadway, Grove City, OH 43123. | City Hall, 4035 Broadway, Grove City, OH 43123. | Jul. 19, 2019 | 390173
Greene (FEMA Docket No.: B-1930). | City of Xenia (18-05-6514P). | The Honorable Marsha J. Bayless, Mayor, City of Xenia, City Hall, 101 North Detroit Street, Xenia, OH 45385. | City Hall, 101 North Detroit Street, Xenia, OH 45385. | Aug. 9, 2019 | 390197
Greene (FEMA Docket No.: B-1930). | Unincorporated Areas of Greene County (18-05-6514P). | Mr. Tom R. Koogler, Commissioner, Greene County, 35 Greene Street, Xenia, OH 45385. | Greene County Engineering, 667 Dayton-Xenia Road, Xenia, OH 45385. | Aug. 9, 2019 | 390193
Oregon: Multnomah (FEMA Docket No.: B-1942). | City of Portland (19-10-0138P). | The Honorable Ted Wheeler, Mayor, City of Portland, 1221 Southwest 4th Avenue, Room 340, Portland, OR 97204. | Bureau of Environmental Services, 1221 Southwest 4th Avenue, Room 230, Portland, OR 97204. | Oct. 7, 2019 | 410183
Texas:
Dallas (FEMA Docket No.: B-1937). | City of Mesquite (19-06-0203P). | The Honorable Stan Pickett, Mayor, City of Mesquite, P.O. Box 850137, Mesquite, TX 75185. | City Engineering Services, 1515 North Galloway Avenue, Mesquite, TX 75185. | Aug. 27, 2019 | 485490
Tarrant (FEMA Docket No.: B-1942). | City of North Richland Hills (19-06-0154P). | The Honorable Oscar Trevino, Jr., Mayor, City of North Richland Hills, 4301 City Point Drive, North Richland Hills, TX 76180. | City Hall, 4301 City Point Drive, North Richland Hills, TX 76180. | Sep. 30, 2019 | 480607
Virginia: Fairfax (FEMA Docket No.: B-1942). | Unincorporated Areas of Fairfax County (18-03-1211P). | Mr. Bryan Hill, Fairfax County Executive, 12000 Government Center Parkway, Fairfax, VA 22035. | Fairfax County Community Map Repository/Stormwater Planning, 12000 Government Center Parkway, Suite 449, Fairfax, VA 22035. | Sep. 30, 2019 | 515525
Wisconsin:
Kenosha (FEMA Docket No.: B-1926). | City of Kenosha (18-05-5192P). | The Honorable John M. Antaramian, Mayor, City of Kenosha, City Hall, 625 52nd Street, Room 300, Kenosha, WI 53140. | City Hall, 625 52nd Street, Kenosha, WI 53140. | Jul. 17, 2019 | 550209
Kenosha (FEMA Docket No.: B-1930). | Village of Bristol (18-05-1772P). | The Honorable Michael Farrell, Village of Bristol Board President, 19801 83rd Street, Bristol, WI 53104. | Village Hall, 19801 83rd Street, Bristol, WI 53104. | Aug. 9, 2019 | 550595
Kenosha (FEMA Docket No.: B-1930). | Village of Pleasant Prairie (18-05-1772P). | The Honorable John Steinbrink, Village of Pleasant Prairie Board President, 8640 88th Avenue, Pleasant Prairie, WI 53158. | Village Hall, 9915 39th Avenue, Pleasant Prairie, WI 53158. | Aug. 9, 2019 | 550613
Milwaukee (FEMA Docket No.: B-1926). | City of Milwaukee (18-05-6243P). | The Honorable Tom Barrett, Mayor, City of Milwaukee, 200 East Wells Street, Room 201, Milwaukee, WI 53202. | City Hall, 200 East Wells Street, Milwaukee, WI 53202. | Aug. 2, 2019 | 550278

[FR Doc. 2019-26248 Filed 12-4-19; 8:45 am]

BILLING CODE 9110-12-P